FEDERAL RESERVE SYSTEM

Change in Bank Control Notices; Acquisitions of Shares of a Bank or Bank Holding Company

The notificants listed below have applied under the Change in Bank Control Act (12 U.S.C. 1817(j)) and section 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 15, 2015.

A. Federal Reserve Bank of Minneapolis (Jacquelyn K. Brunmeier, Assistant Vice President) 90 Hennepin Avenue, Minneapolis, Minnesota 55480-0291:

1. The Belva H. Rasmussen 2012 Irrevocable Trust, Roseville, Minnesota, Pamela M. Harris, Falcon Heights, Minnesota, and Eva B. Rasmussen, Edina, Minnesota, individually and as trustees, and Benjamin T. Rasmussen, Edina, Minnesota, to retroactively join the Rasmussen Family Control Group; to acquire voting shares of Northeast Securities Corporation, Minneapolis, Minnesota; and thereby indirectly acquire voting shares of Northeast Bank, Minneapolis, Minnesota.

Board of Governors of the Federal Reserve System, March 26, 2015.
Michael J. Lewandowski,
Associate Secretary of the Board.

[FR Doc. 2015-07296 Filed 3-30-15; 8:45 am]

BILLING CODE 6210-01-P